DEPARTMENT OF HOUSING AND URBAN DEVELOPMENT

[Docket No. FR-4912-N-16]

Notice of Availability of a Supplement to the Draft Environmental Impact Statement for the Development of Stillwater Business Park, City of Redding, CA

AGENCY: Office of the Assistant Secretary for Community Planning and Development, HUD.

ACTION: Notice.

SUMMARY: HUD gives notice to the public, agencies, and Indian tribes that the City of Redding, CA, has prepared a Supplement to the Draft Environmental Impact Statement (SDEIS)/ Environmental Impact Report (EIR) for the Stillwater Business Park project located in Redding, CA. The comment period on the DEIS closed in early May 2005. The City of Redding, CA has prepared the Supplement to the Draft EIS/EIR under its authority as the responsible entity for compliance with the National Environmental Policy Act (NEPA) in accordance with 42 U.S.C. 3547(c) and HUD regulations at 24 CFR 58.4 and under its authority as lead agency in accordance with the California Environmental Quality Act (CEQA). The Supplement to the Draft EIS/EIR is a joint NEPA and CEQA document. The EIR will satisfy requirements of the CEQA (Public Resources Code 21000 et seq.) and state CEQA Guidelines (14 California Code of Regulations 15000 et seq.) that require all state and local government agencies to consider the environmental consequences of projects over which they have discretionary authority before acting on those projects. Because HUD Economic Development Initiative (EDI) special project funds would be used, the proposed action is also subject to NEPA. EPA, State and Tribal Assistance Grants (STAG) will also fund water and wastewater related infrastructure. EPA is acting as a cooperating agency for this process. This notice is given in accordance with the Council on Environmental Quality regulations at 40 CFR parts 1500-1508. All interested Federal, State, and local agencies, Indian tribes, groups, and the public are invited to comment on the supplement to the draft EIS.

DATES: Comment Due Date: Comments must be received within 45 days from the date this notice is published. Written comments on the SDEIS/EIR should be addressed to the contact person listed below.

FOR FURTHER INFORMATION CONTACT: Nathan Cherpeski, City of Redding, 777 Cypress Ave., Redding, CA 96001; telephone (530) 225-4519, e-mail: mailto:ncherpeski@ci.redding.ca.us.

The SDEIS/EIR is available on the Internet and can be viewed or downloaded at: http://ci.redding.ca.us/cm/major_pr/still_buspk.html.

Copies of the SDEIS/EIR are also available for review at the following locations:

City of Redding, Permit Center, 777 Cypress Ave, Redding, CA 96001.

Shasta County Department of Resource Management, Planning Division, 1855 Placer Street, Redding, CA 96001.

Shasta County Library, 1855 Shasta Street, Redding, CA 96001.

Shasta County Library—Anderson Branch, 3200 West Center, Anderson, CA 96007.

SUPPLEMENTARY INFORMATION: A Notice of Intent to prepare a draft EIS was published May 11, 2004. A Draft EIS/EIR (050103) was circulated in early 2005. The comment period for that document closed on May 2, 2005. Modifications made to the project, since that time, are the subject of this SDEIS/EIR. The proposed action is the development of a large parcel business park through the acquisition of land and the construction of major infrastructure components and the provision of public services and utilities to serve the development. The City of Redding is proposing the development of the area east and northeast of the Municipal Airport in Redding, California. The proposed action study area is located on the Enterprise and Cottonwood, California 7.5-minute USGS quadrangles, Township 31 North, Range 4 West, Sections 2, 3, 10, 14, 15, 22, 23, 26, 34, and 35. The purpose and need for this project is to increase the activity of contributory economic sectors by constructing a medium to large parcel business park within the City of Redding sphere of influence capable of attracting and accommodating diverse business and industrial users.

The SDEIS/EIR focuses on additional information in the purpose and need discussion, and Alternatives 2 and 3. Tables, figures, and pertinent text discussions have been updated as necessary. The changes in the alternatives analysis focus on the following:

Alternative 2: (Preferred Alternative): Significant changes since the DEIS include a reduction in the developable acreage from 383 acres to approximately 340 acres. The set-aside and open space area increased from approximately 250 acres to approximately 290 acres. All development was eliminated from the watershed that feeds the adjacent Stillwater Plains. Easements will prevent infrastructure expansion to the north or east of the project's immediate boundaries. Additional buffers were added to protect sensitive areas.

Alternative 3: The SDEIS includes updated information on endangered species not available at the release of the earlier DEIS.

The SDEIS/SDEIR addresses the following environmental issues: hydrology, biological resources, erosion control, growth inducing effects, and secondary and cumulative impacts.

Questions may be directed to the individual named above under the heading FOR FURTHER INFORMATION CONTACT.

Dated: September 26, 2005.
Pamela H. Patenaude,
Assistant Secretary for Community Planning and Development.

[FR Doc. E5-5463 Filed 10-5-05; 8:45 am]

BILLING CODE 4210-27-P